DEPARTMENT OF THE INTERIOR

Fish and Wildlife Service

[FWS-R5-R-2013-N267; BAC-4311-K9-S3]

Chincoteague National Wildlife Refuge and Wallops Island National Wildlife Refuge, Accomack County, Virginia; Draft Comprehensive Conservation Plan and Environmental Impact Statement

AGENCY: Fish and Wildlife Service, Interior.

ACTION: Notice of availability; request for comments.

SUMMARY: We, the U.S. Fish and Wildlife Service (Service), announce the availability of a draft comprehensive conservation plan (CCP) and environmental impact statement (EIS) for Chincoteague National Wildlife Refuge (NWR) and Wallops Island NWR for public review and comment. In this single draft CCP/EIS, we describe how we propose to manage both the staffed 14,032-acre Chincoteague NWR and the unstaffed 373-acre Wallops Island NWR over the next 15 years.

DATES: To ensure consideration, we must receive your written comments by July 14, 2014. We will hold a public meeting and an open house-style meeting during the comment period to receive comments and provide information on the draft plan. In addition, we will use special mailings, newspaper articles, internet postings, and other media announcements to inform people of opportunities for input.

ADDRESSES: Send your comments or requests for more information by any one of the following methods:

• Email: northeastplanning@fws.gov. Include “Chincoteague Draft CCP/EIS” in the subject line of the message.

• Fax: Attention: Thomas Bonetti, Refuge Planner, 413-253-8468.

• U.S. Mail: Attention: Thomas Bonetti, Refuge Planner, USFWS, Northeast Regional Office, 300 Westgate Center Drive, Hadley, MA 01035.

• In-Person Drop Off: You may drop off comments during regular business hours at the refuge headquarters, 8231 Beach Road, Chincoteague Island, VA 23336.

You will find the draft CCP/EIS, as well as information about the planning process and a summary of the CCP, on the planning Web site: http://www.fws.gov/northeast/planning/Chincoteague/ccphome.html.

FOR FURTHER INFORMATION CONTACT: Thomas Bonetti, Planning Team Leader, 413-253-8307.

SUPPLEMENTARY INFORMATION:

Introduction

With this notice, we continue the CCP process for Chincoteague NWR and Wallops Island NWR, which we began by publishing a notice of intent in the Federal Register (75 FR 57056) on September 17, 2010. For more about the initial process and the history of this refuge, see that notice.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The draft CCP/EIS, which includes detailed information about the planning process, refuge, issues, and management alternatives considered and proposed, may be found at http://www.fws.gov/northeast/planning/Chincoteague/ccphome.html. There are three alternative refuge management options considered in the EIS. The Service's preferred alternative is reflected in the draft CCP/EIS.

The alternatives analyzed in detail include:

• Alternative A: Current Management (No Action): Alternative A is the status quo and current management alternative as required by the National Environmental Policy Act. This alternative, referred to as our “No Action” alternative, continues current management strategies as established by the Chincoteague NWR Master Plan approved in 1992, and serves as a baseline for comparing alternatives B and C.

• Alternative B would continue established habitat and wildlife management strategies but focus them in light of the new goals and vision established by the CCP. This alternative balances habitat management, public use and access, and administration of the refuge. Alternative B is our preferred alternative.

• Alternative C would direct staffing and funding towards maximizing habitat and wildlife management strategies. As a result of prioritizing habitat and wildlife management, public use activities and access may be reduced.

Public Involvement

We will give the public an opportunity to provide input at a public meeting. You can obtain the schedule from the address or Web site listed in this notice (see ADDRESSES). You may also submit comments anytime during the comment period.

Public Availability of Comments

Before including your address, phone number, email address, or other personal identifying information in your comment, you should be aware that your entire comment—including your personal identifying information—may be made publicly available at any time. While you can ask us in your comment to withhold your personal identifying information from public review, we cannot guarantee that we will be able to do so.

Dated: April 4, 2014.
Deborah Rocque,
Acting Regional Director, Northeast Region.

[FR Doc. 2014-10799 Filed 5-14-14; 8:45 am]

BILLING CODE 4310-55-P